DEPARTMENT OF HOMELAND SECURITY

Coast Guard

33 CFR Part 117

[CGD08-07-012]

Drawbridge Operation Regulations; Illinois Waterway, Beardstown, IL

AGENCY: Coast Guard, DHS.

ACTION: Notice of temporary deviation from regulations.

SUMMARY: The Commander, Eighth Coast Guard District has issued a temporary deviation from the regulation governing the operations of the Burlington Northern Santa Fe Railroad Bridge, Mile 88.8, at Beardstown, Illinois across the Illinois Waterway. The deviation is necessary to allow time for replacement of rail ties which only can be done when the bridge is in the closed-to-navigation position. This deviation allows the bridge to remain closed-to-navigation during a 4-hour interval each day for eight days in a two week period.

DATES: This deviation is effective from 9 a.m. June 4, 2007, to 1 p.m. June 14, 2007.

ADDRESSES: Materials referred to in this document are available for inspection or copying at Room 2.107F in the Robert A. Young Federal Building, 1222 Spruce Street, St. Louis, MO 63103-2832, between 8 a.m. and 4 p.m., Monday through Friday, except Federal holidays. The telephone number is 314-269-2300. The Bridge Administration Branch maintains the public docket for this temporary deviation.

FOR FURTHER INFORMATION CONTACT: Roger K. Wiebusch, Bridge Administrator, (314) 269-2378.

SUPPLEMENTARY INFORMATION: The Burlington Northern Santa Fe Railway Company requested a temporary deviation for the Burlington Northern Santa Fe Railroad Bridge, mile 88.8, at Beardstown, Illinois across the Illinois Waterway. It has a vertical clearance of 19.6 feet above normal pool in the closed position. The Burlington Northern Santa Fe Railroad Bridge currently operates in accordance with 33 CFR 117.393(a) which requires that the bridge be maintained in the open-to-navigation position; closing only when a train needs to transit the bridge.

The deviation period is from 9 a.m. to 1 p.m., each day, June 4-7 and 11-14, 2007, when the draw span will be maintained in the closed-to-navigation position. During this time rail ties will be pulled from the tracks and replaced. Both commercial vessels and recreational watercraft use the waterway. Most commercial vessels can not pass underneath the bridge while it is in the closed position. If an emergency arises, it would be possible to open the bridge, once workers and equipment have been moved from the drawspan. There are no alternate routes for vessels transiting this section of the Illinois Waterway. The Corps of Engineers will be performing repairs to the Melvin Price Lock and Dam, mile 200.8, Upper Mississippi River for maintenance from May 10 to June 24, 2007 which will minimize commercial vessel movements between the bridge and the lock locations. Minimal impact to navigation is expected.

In accordance with 33 CFR 117.35(c), the drawbridge shall return to its regular operating schedule immediately at the end of the designated time period. This deviation from the operating regulations is authorized under 33 CFR 117.35.

Dated: May 21, 2007.
Roger K. Wiebusch,
Bridge Administrator.

[FR Doc. E7-10496 Filed 5-30-07; 8:45 am]

BILLING CODE 4910-15-P